DEPARTMENT OF ENERGY

Federal Energy Regulatory Commission

[Project No. 2237-013 Georgia]

Georgia Power Company; Notice of Georgia Power's Morgan Falls Operations Technical Workshop

August 16, 2004.

In response to stakeholder feedback received at the July 2004 Morgan Falls Study Plan Meetings, Georgia Power is convening a Morgan Falls Operations Technical Workshop. The Workshop will be held September 1, 2004 from 8:30 a.m. until 12 noon (e.s.t.) at the Georgia Power corporate office address provided below. The purpose of the Workshop is to provide stakeholders with a better basic understanding of project operations. A description of project operation was previously provided in the Pre-Application Document, Scoping Document I, the Proposed Study Plan, and at Scoping Meetings, but because of its complexity, several stakeholder groups had requested at the Study Plan Meetings additional discussions of the operations of the Morgan Falls Project. A Morgan Falls Operations primer, based on stakeholder feedback received at the Study Plan Meetings, will be distributed for review prior to the Technical Workshop.

Workshop Meeting Location: Georgia Power Company, J. K. Davis Conference Center, First Floor, Room 7, 241 Ralph McGill Boulevard, NE., Atlanta, Georgia 30308.

For building security clearance, please RSVP to George Martin at (404) 506-1357 or gamartin@southernco.com. If you have any questions, please contact Mr. Martin or Janet Hutzel at (202) 502-8675 or janet.hutzel@ferc.gov.

Linda Mitry,
Acting Secretary.

[FR Doc. E4-1866 Filed 8-19-04; 8:45 am]

BILLING CODE 6717-01-P